DEPARTMENT OF ENERGY

Federal Energy Regulatory Commission

[Project No. 9985-038]

Rivers Electric, LLC; Notice of Effectiveness of Withdrawal of Application for Amendment of License

On July 14, 2023, Rivers Electric, LLC (licensee) filed an application for non-capacity amendment of the license for the 1.00-megawatt Mill Pond Hydroelectric Project No. 9985. On March 31, 2025, the licensee filed a notice of withdrawal of the amendment application. The project is located on the Catskill Creek in Greene County, New York.

No motion in opposition to the notice of withdrawal has been filed, and the Commission has taken no action to disallow the withdrawal. Pursuant to Rule 216(b) of the Commission's Rules of Practice and Procedure,¹ the withdrawal of the application became effective on April 15, 2025, and this proceeding is hereby terminated.

¹ 18 CFR 385.216(b) (2024).

Dated: May 28, 2025.
Debbie-Anne A. Reese,
Secretary.

[FR Doc. 2025-10100 Filed 6-3-25; 8:45 am]

BILLING CODE 6717-01-P